DEPARTMENT OF ENERGY

Federal Energy Regulatory Commission

Combined Notice of Filings #1

December 3, 2010.

Take notice that the Commission received the following electric corporate filings:

Docket Numbers: EC11-28-000.

Applicants: Duquesne Light Company, Duquesne Power, LLC, Duquesne Keystone LLC, Duquesne Conemaugh LLC, DUET Investment Holdings Limited, GIC Infra Holdings Pte Ltd.

Description: Application for Authorization Under Sections 203(A)(1) and 203(A)(2) of the Federal Power Act and Request for Expedited Action of Duquesne Light Company, et al.

Filed Date: 12/03/2010.

Accession Number: 20101203-5038.

Comment Date: 5 p.m. Eastern Time on Monday, December 27, 2010.

Take notice that the Commission received the following electric rate filings:

Docket Numbers: ER99-4124-027.

Applicants: Arizona Public Service Company.

Description: Notice of Non-material Change in Status of Arizona Public Service Company.

Filed Date: 12/03/2010.

Accession Number: 20101203-5089.

Comment Date: 5 p.m. Eastern Time on Monday, December 27, 2010.

Docket Numbers: ER10-2746-003.

Applicants: PJM Interconnection, L.L.C.

Description: PJM Interconnection, L.L.C. submits tariff filing per 35: PJM submits an errata to PJM's Interregional Agreements re Midwest ISO-PJM JOA to be effective 9/17/2010.

Filed Date: 12/03/2010.

Accession Number: 20101203-5077.

Comment Date: 5 p.m. Eastern Time on Monday, December 27, 2010.

Docket Numbers: ER10-3158-001.

Applicants: Dillon Wind LLC.

Description: Dillon Wind LLC submits a compliance filing to incorporate the currently effective tariff language as accepted in the Category I Letter Order, to be effective 9/29/2010.

Filed Date: 12/03/2010.

Accession Number: 20101203-5000.

Comment Date: 5 p.m. Eastern Time on Monday, December 27, 2010.

Docket Numbers: ER10-3161-001.

Applicants: Shiloh I Wind Project, LLC.

Description: Shiloh I Wind Project, LLC submits tariff filing per 35: Baseline Compliance Filing, to be effective 9/29/2010.

Filed Date: 12/03/2010.

Accession Number: 20101203-5002.

Comment Date: 5 p.m. Eastern Time on Monday, December 27, 2010.

Docket Numbers: ER10-3162-001.

Applicants: Mountain View Power Partners III, LLC.

Description: Mountain View Power Partners III, LLC submits a compliance filing to incorporate the currently effective tariff language as accepted in the Category I Letter Order, to be effective 9/29/2010.

Filed Date: 12/03/2010.

Accession Number: 20101203-5001.

Comment Date: 5 p.m. Eastern Time on Monday, December 27, 2010.

Docket Numbers: ER10-3176-001.

Applicants: Gerdau Ameristeel Energy, Inc.

Description: Gerdau Ameristeel Energy, Inc. submits tariff filing per 35: Gerdau Ameristeel Baseline Filing to be effective 12/3/2010.

Filed Date: 12/03/2010.

Accession Number: 20101203-5049.

Comment Date: 5 p.m. Eastern Time on Monday, December 27, 2010.

Docket Numbers: ER10-3214-001.

Applicants: PH Glatfelter Company.

Description: PH Glatfelter Company submits tariff filing per 35: P.H. Glatfelter Company Baseline Filing to be effective 12/3/2010.

Filed Date: 12/03/2010.

Accession Number: 20101203-5050.

Comment Date: 5 p.m. Eastern Time on Monday, December 27, 2010.

Docket Numbers: ER11-2280-000.

Applicants: Sustainable Star.

Description: Sustainable Star submits tariff filing per 35.12: New Company's Tariff to be effective 12/12/2010.

Filed Date: 12/02/2010.

Accession Number: 20101202-5063.

Comment Date: 5 p.m. Eastern Time on Thursday, December 23, 2010.

Docket Numbers: ER11-2282-000.

Applicants: Sierra Pacific Power Company.

Description: Sierra Pacific Power Company submits tariff filing per 35.13(a)(2)(iii): Rate Schedule No. 61—Concurrence in CalPeco Rate Schedule No. 3 to be effective 12/31/2010.

Filed Date: 12/02/2010.

Accession Number: 20101202-5071.

Comment Date: 5 p.m. Eastern Time on Thursday, December 23, 2010.

Docket Numbers: ER11-2283-000.

Applicants: Sierra Pacific Power Company.

Description: Sierra Pacific Power Company submits tariff filing per 35.13(a)(2)(iii): Rate Schedule No. 62—Concurrence in CalPeco Rate Schedule No. 4 to be effective 12/31/2010.

Filed Date: 12/02/2010.

Accession Number: 20101202-5074.

Comment Date: 5 p.m. Eastern Time on Thursday, December 23, 2010.

Docket Numbers: ER11-2284-000.

Applicants: Fowler Ridge Wind Farm LLC.

Description: Fowler Ridge Wind Farm LLC submits tariff filing per 35: Compliance Filing to be effective 12/2/2010.

Filed Date: 12/02/2010.

Accession Number: 20101202-5079.

Comment Date: 5 p.m. Eastern Time on Thursday, December 23, 2010.

Docket Numbers: ER11-2285-000.

Applicants: Alabama Power Company.

Description: Alabama Power Company submits tariff filing per 35.13(a)(2)(iii): Piedmont Green Power LGIA Amendment Filing to be effective 9/23/2010.

Filed Date: 12/02/2010.

Accession Number: 20101202-5117.

Comment Date: 5 p.m. Eastern Time on Thursday, December 23, 2010.

Docket Numbers: ER11-2286-000.

Applicants: Sustainable Star.

Description: Sustainable Star submits tariff filing per 35.12: New Company's Tariff to be effective 12/12/2010.

Filed Date: 12/02/2010.

Accession Number: 20101202-5122.

Comment Date: 5 p.m. Eastern Time on Thursday, December 23, 2010.

Docket Numbers: ER11-2287-000.

Applicants: PJM Interconnection, L.L.C.

Description: PJM Interconnection, L.L.C. submits tariff filing per 35.13(a)(2)(iii): PJM submits Tariff and RAA revisions regarding Must Offer language to be effective 1/31/2011.

Filed Date: 12/02/2010.

Accession Number: 20101202-5125.

Comment Date: 5 p.m. Eastern Time on Thursday, December 23, 2010.

Docket Numbers: ER11-2288-000.

Applicants: PJM Interconnection, L.L.C.

Description: PJM Interconnection, L.L.C. submits tariff filing per 35.13(a)(2)(iii): PJM submits Tariff and RAA revisions regarding Demand Response Saturation to be effective 2/1/2011.

Filed Date: 12/02/2010.

Accession Number: 20101202-5126.

Comment Date: 5 p.m. Eastern Time on Thursday, December 23, 2010.

Docket Numbers: ER11-2289-000.

Applicants: Sierra Pacific Power Company.

Description: Sierra Pacific Power Company submits revisions to Exhibit F of the General Transfer Agreement, Rate Schedule No. 27—with Bonneville Power Administration, to be effective 10/31/2010.

Filed Date: 12/03/2010.

Accession Number: 20101203-5004.

Comment Date: 5 p.m. Eastern Time on Monday, December 27, 2010.

Docket Numbers: ER11-2290-000.

Applicants: Pacific Gas and Electric Company.

Description: Pacific Gas and Electric Company submits its compliance filing concerning one rate change to PG&E's Transmission Owner Tariff, to be effective 3/1/2011.

Filed Date: 12/03/2010.

Accession Number: 20101203-5005.

Comment Date: 5 p.m. Eastern Time on Monday, December 27, 2010.

Docket Numbers: ER11-2291-000.

Applicants: Southwest Power Pool, Inc.

Description: Southwest Power Pool, Inc. submits tariff filing per 35.13(a)(2)(iii): Formula Rate Update—SPS to be effective 7/26/2010.

Filed Date: 12/03/2010.

Accession Number: 20101203-5048.

Comment Date: 5 p.m. Eastern Time on Monday, December 27, 2010.

Docket Numbers: ER11-2292-000.

Applicants: Brookfield Energy Marketing Inc.

Description: Brookfield Energy Marketing Inc. submits tariff filing per 35.13(a)(2)(iii): Brookfield Energy Marketing Inc. Market-Based Rate Tariff to be effective 12/4/2010.

Filed Date: 12/03/2010.

Accession Number: 20101203-5082.

Comment Date: 5 p.m. Eastern Time on Monday, December 27, 2010.

Docket Numbers: ER11-2293-000.

Applicants: Brookfield Energy Marketing US LLC.

Description: Brookfield Energy Marketing US LLC submits tariff filing per 35.13(a)(2)(iii): Brookfield Energy Marketing US LLC MBR Tariff to be effective 12/4/2010.

Filed Date: 12/03/2010.

Accession Number: 20101203-5083.

Comment Date: 5 p.m. Eastern Time on Monday, December 27, 2010.

Docket Numbers: ER11-2294-000.

Applicants: Brookfield Renewable Energy Marketing US.

Description: Brookfield Renewable Energy Marketing US LLC submits tariff filing per 35.13(a)(2)(iii): Brookfield Renewable Energy Marketing US LLC Market-Based Rate Tariff to be effective 12/4/2010.

Filed Date: 12/03/2010.

Accession Number: 20101203-5084.

Comment Date: 5 p.m. Eastern Time on Monday, December 27, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-31843 Filed 12-17-10; 8:45 am]

BILLING CODE 6717-01-P